DEPARTMENT OF LABOR

Wage and Hour Division

Agency Information Collection Activities; Comment Request; Proposed Extension of the Approval of Information Collection Requirements: Establishing Paid Sick Leave for Federal Contractors

AGENCY: Wage and Hour Division, Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the Wage and Hour Division is soliciting comments concerning its proposal to extend Office of Management and Budget (OMB) approval of the Information Collection: Establishing Paid Sick Leave for Federal Contractors. A copy of the proposed information collection request can be obtained by contacting the office listed below in the FOR FURTHER INFORMATION CONTACT section of this Notice.

DATES: Written comments must be submitted to the office listed in the addresses section below on or before July 22, 2019.

ADDRESSES: You may submit comments, identified by Control Number 1235-0029, by either one of the following methods:

Email: WHDPRAComments@dol.gov.

Mail, Hand Delivery, Courier: Regulatory Analysis Branch, Wage and Hour Division, U.S. Department of Labor, Room S-3502, 200 Constitution Avenue NW, Washington, DC 20001.

Instructions: Please submit one copy of your comments by only one method. All submissions received must include the agency name and Control Number identified above for this information collection. Because we continue to experience delays in receiving mail in the Washington, DC area, commenters are strongly encouraged to transmit their comments electronically via email or to submit them by mail early. Comments, including any personal information provided, become a matter of public record. They will also be summarized and/or included in the request for Office of Management and Budget approval of the information collection request.

FOR FURTHER INFORMATION CONTACT: Robert Waterman, Division of Regulations, Legislation, and Interpretation, Wage and Hour Division, U.S. Department of Labor, RoomS-3502, 200 Constitution Avenue NW, Washington, DC 20001; telephone: (202) 693-0406 (this is not a toll-free number). Copies of this notice may be obtained in alternative formats (Large Print, Braille, Audio Tape or Disc), upon request, by calling (202) 693-0023 (not a toll-free number). TTY/TDD callers may dial toll-free (877) 889-5627 to obtain information or request materials in alternative formats.

SUPPLEMENTARY INFORMATION: I. Background: On September 7, 2015, President Barack Obama signed Executive Order 13706 (80 FR 54697, September 10, 2015). The Executive Order established paid sick leave for Federal Contractors. Executive Order 13706 stated that the Federal Government's procurement interests in efficiency and cost savings are promoted when the Federal Government contracts with sources that ensure workers on those contracts can earn paid sick leave. The Executive Order therefore required parties who contract with the Federal Government to provide their employees with up to seven days of paid sick time annually, including paid time allowing for family care. The Final Rule established standards and procedures for implementing and enforcing the paid sick leave requirements of Executive Order 13706. As required by the Order, the Final Rule incorporated, to the extent practicable, existing definitions, procedures, remedies, and enforcement processes under the Fair Labor Standards Act, the McNamara-O'Hara Service Contract Act, the Davis-Bacon Act, the Family and Medical Leave Act, the Violence Against Women Act, and Executive Order 13658, Establishing a Minimum Wage for Contractors. Among other requirements, the regulations require employers subject to the Order to make and maintain records for notifications to employees on leave accrual and requests to use paid sick leave, dates and amounts of paid sick leave used, written responses to requests to use paid sick leave, records relating to certification and documentation where an employer requires this from an employee using at least three consecutive days of leave, tracking of or calculations related to an employee's accrual or use of paid sick leave, the relevant covered contract, pay and benefits provided to an employee using leave, and any financial payment for unused sick leave made to an employee on separation from employment. The information collection was submitted with the Final Rule and is currently approved for use through December, 2019.

II. Review Focus: The DOL is particularly interested in comments that:

1. Evaluate whether the proposed collection of information is necessary for the proper performance of the functions of the agency, including whether the information will have practical utility;

2. evaluate the accuracy of the agency's estimate of the burden of the proposed collection of information, including the validity of the methodology and assumptions used;

3. enhance the quality, utility, and clarity of the information to be collected; and

4. minimize the burden of the collection of information on those who are to respond, including through the use of appropriate automated, electronic, mechanical, or other technological collection techniques or other forms of information technology, e.g., permitting electronic submissions of responses.

III. Current Actions: The DOL seeks to extend the information collection requests for Establishing Paid Sick Leave for Federal Contractors.

Type of Review: Extension.

Agency: Wage and Hour Division.

Titles: Establishing Paid Sick Leave for Federal Contractors.

OMB Number: 1235-0029.

Affected Public: Federal Contractors.

Respondents: 454,067.

Total Annual Responses: 1,816,268.

Estimated Total Burden Hours: 30,272.

Estimated Time per Response: 5 minutes.

Frequency: On Occasion, but no more often than annual.

Total Burden Cost (capital/startup): $0.

Total Burden Cost (operating/maintenance): $392,910.

Dated: April 30, 2019.
Robert M. Waterman,
Division of Regulations, Legislation and Interpretation.

[FR Doc. 2019-10620 Filed 5-21-19; 8:45 am]

BILLING CODE 4510-27-P